POSTAL REGULATORY COMMISSION

[Docket No. ACR2017; Order No. 4334]

Postal Service Performance Report and Performance Plan

AGENCY: Postal Regulatory Commission.

ACTION: Notice.

SUMMARY: On December 29, 2017, the Postal Service filed the FY 2017 Performance Report and FY 2018 Performance Plan with its FY 2017 Annual Compliance Report. This notice informs the public of the filing, invites public comment, and takes other administrative steps.

DATES:

Comments are due: February 8, 2018. Reply Comments are due: February 22, 2018.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Request for Comments

III. Ordering Paragraphs

I. Introduction

Each year the Postal Service must submit to the Commission its most recent annual performance plan and annual performance report. 39 U.S.C. 3652(g). On December 29, 2017, the Postal Service filed its FY 2017 Annual Report to Congress in Docket No. ACR2017.¹ The FY 2017 Annual Report includes the Postal Service's FY 2018 annual performance plan (FY 2018 Plan) and FY 2017 annual performance report (FY 2017 Report). FY 2017 Annual Report at 13-28.

¹ United States Postal Service FY 2017 Annual Report to Congress, Library Reference USPS-FY17-17, December 29, 2017 (FY 2017 Annual Report).

The FY 2018 Plan reviews the Postal Service's plans for FY 2018. The FY 2017 Report discusses the Postal Service's progress during FY 2017 toward its four performance goals:

• High-Quality Service

• Excellent Customer Experiences

• Safe Workplace and Engaged Workforce

• Financial Health

Each year, the Commission must evaluate whether the Postal Service met the performance goals established in the annual performance plan and annual performance report. 39 U.S.C. 3653(d). The Commission may also “provide recommendations to the Postal Service related to the protection or promotion of public policy objectives set out in” title 39. Id.

Since Docket No. ACR2013, the Commission has evaluated whether the Postal Service met its performance goals in reports separate from the Annual Compliance Determination.² The Commission continues this current practice to provide a more in-depth analysis of the Postal Service's progress toward meetings its performance goals and plans to improve performance in future years. To facilitate this review, the Commission invites public comment on the following issues:

² See Docket No. ACR2013, Postal Regulatory Commission, Review of Postal Service FY 2013 Performance Report and FY 2014 Performance Plan, July 7, 2014; Docket No. ACR2014, Postal Regulatory Commission, Analysis of the Postal Service's FY 2014 Program Performance Report and FY 2015 Performance Plan, July 7, 2015; Docket No. ACR2015, Postal Regulatory Commission, Analysis of the Postal Service's FY 2015 Annual Performance Report and FY 2016 Performance Plan, May 4, 2016; Docket No. ACR2016, Postal Regulatory Commission, Analysis of the Postal Service's FY 2016 Annual Performance Report and FY 2017 Performance Plan, April 27, 2017.

• Did the Postal Service meet its performance goals in FY 2017?

• Do the FY 2017 Report and the FY 2018 Plan meet applicable statutory requirements, including 39 U.S.C. 2803 and 2804?

• What recommendations should the Commission provide to the Postal Service that relate to protecting or promoting public policy objectives in title 39?

• What recommendations or observations should the Commission make concerning the Postal Service's strategic initiatives? ³

³ See FY 2017 Annual Report at 27-28.

• What other matters are relevant to the Commission's analysis of the FY 2017 Report and the FY 2018 Plan under 39 U.S.C. 3653(d)?

II. Request for Comments

Comments by interested persons are due no later than February 8, 2018. Reply comments are due no later than February 22, 2018. Pursuant to 39 U.S.C. 505, Katalin K. Clendenin is appointed to serve as Public Representative to represent the interests of the general public in this proceeding with respect to issues related to the Commission's analysis of the FY 2017 Report and the FY 2018 Plan.

III. Ordering Paragraphs

It is ordered:

1. The Commission invites public comment on the Postal Service's FY 2017 Report and FY 2018 Plan.

2. Pursuant to 39 U.S.C. 505, the Commission appoints Katalin K. Clendenin to serve as Public Representative to represent the interests of the general public in this proceeding with respect to issues related to the Commission's analysis of the FY 2017 Report and the FY 2018 Plan.

3. Comments are due no later than February 8, 2018.

4. Reply comments are due no later than February 22, 2018.

5. The Secretary shall arrange for publication of this order in the Federal Register.

By the Commission.
Stacy L. Ruble,
Secretary.

[FR Doc. 2018-00165 Filed 1-8-18; 8:45 am]

BILLING CODE 7710-FW-P